DEPARTMENT OF DEFENSE

Department of the Army

32 CFR Part 505

[Docket ID: USA-2019-HQ-0021]

RIN 0702-AB03

The Army Privacy Program

AGENCY: Department of the Army, DoD.

ACTION: Final rule.

SUMMARY: This final rule removes DoD's regulation concerning the Department of the Army's Privacy Program. On April 11, 2019, DoD published a revised DoD-level Privacy Program rule, which contains the necessary information for an agency-wide Privacy Program regulation under the Privacy Act and now serves as the single Privacy Program rule for the Department. That revised Privacy Program rule also includes all DoD component exemption rules. Therefore, the regulation is now unnecessary and may be removed from the CFR.

DATES: This rule is effective on September 5, 2019.

FOR FURTHER INFORMATION CONTACT: Tracy Rogers at 571-515-0248.

SUPPLEMENTARY INFORMATION: DoD now has a single DoD-level Privacy Program rule at 32 CFR part 310 (84 FR 14728) that contains all the codified information required for the Department. The Department of the Army Privacy Act Program regulation at 32 CFR part 505 is no longer required and may be removed.

It has been determined that publication of this CFR part removal for public comment is impracticable, unnecessary, and contrary to public interest since it is based on the removal of policies and procedures that are either now reflected in another CFR part, 32 CFR part 310, or are publically available on the Army's website. To the extent that Army internal guidance concerning the implementation of the Privacy Act within the Army is necessary, it will continue to be published in Army Regulation 25-22 (available at https://armypubs.army.mil/epubs/DR_pubs/DR_a/pdf/web/ARN13587_R25_22_FINAL.pdf).

This rule is one of 20 separate component privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review,” therefore, E.O. 13771, “Reducing Regulation and Controlling Regulatory Costs” does not apply.

List of Subjects in 32 CFR Part 505

Administrative practice and procedure, Privacy program.

PART 505—[REMOVED]

Accordingly, by the authority of 5 U.S.C. 301, 32 CFR part 505 is removed.

Brenda S. Bowen,
Army Federal Register Liaison Officer.

[FR Doc. 2019-19148 Filed 9-4-19; 8:45 am]

BILLING CODE 5001-03-P